FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Agility Project Logistics, Inc. (OFF), 15600 Morales Road, Houston, TX 77032, Officers: Grant Wattman, President (QI), Larry Weischwill, Senior Vice President, Application Type: QI Change.

Ally Logistics LLC (NVO & OFF), 387 Hatherly Road, Scituate, MA 02066, Officers: Stephen J. Zambo, Member (QI), Stephen A. Zambo, Member, Application Type: New NVO & OFF License.

Axiom Worldwide Logistix Inc. (OFF), 4251 W. John Carpenter Freeway, #100, Irving, TX 75063, Officers: Jeffrey S. Bell, President (QI), Nicki Combs, Secretary, Application Type: New OFF License.

Brisk Logistics Inc. (NVO & OFF), 1677 Elmhurst Road, Elk Grove Village, IL 60007, Officers: Joshua H. Chau, President (QI), Bessie S. Chau, Secretary, Application Type: New NVO & OFF License.

Delmar International (N.Y.) Inc. dba Delmar International dba Delmar International (USA), (NVO & OFF), One Cross Island Plaza, Suite 115, Rosedale, NY 11422, Officers: Robert Tayler, Vice President (QI), Robert Cutler, President.

Direct Line Transportation, LLC (NVO), 9034 E. Easter Place, Suite #203, Centennial, CO 80112, Officers: Eric S. Bachman, Manager (QI), William F. Vogel, Managing Member, Application Type: New NVO License, Application Type: QI Change.

Early Bird Pick Up and Delivery, LLC (OFF), 128 Magnolia Street, Bridgeport, CT 06610, Officer: Junior Hart, Member (QI), Application Type: New OFF License.

Fastgrow Logistics (Americas) Inc (NVO), 17588 Rowland Street, Suite 266, City of Industry, CA 91748, Officers: Peter Shih, Secretary (QI), Guang Dong, President, Application Type: New NVO License.

Jerome Okolo and David Newton dba Emunah Global (NVO & OFF), 1904 Farnam Street, Suite 610, Omaha, NE 68102, Officers: David D. Newton, Partner (QI), Jerome Okolo, Partner, Application Type: New NVO & OFF License.

Jolly Forwarding USA, Inc. dba Jollibox Cargo Express dba Pinoy Express Cargo dba Chips R'US (NVO), 470 Cloverleaf Drive, Suite A&B, Baldwin Park, CA 91706, Officers: Maria Lourdes A. Timbol, President (QI), Urdelia C. Linayao, Secretary, Application Type: New NVO License.

Magnum-Ramstr Cargo LLC (NVO & OFF), 2 Ethel Road, Suite 202C, Edison, NJ 08817, Officers: Debora A. Sacco-Alterisio, Secretary (QI), Dilip Ram, President, Application Type: New NVO & OFF License.

Trans World Freight System NYC Corp. (NVO & OFF), 14530 156 Street, Suite 206, Jamaica, NY 11434, Officers: Xiumin Wu, President (QI), Philip Chee, Vice President, Application Type: New NVO & OFF License.

Unity Cargo Management Services USA Inc. (NVO), 9690 Telstar Avenue, Suite 222A, El Monte, CA 91731, Officers: Maggie Lok, Secretary (QI), Yuhong aka Morny Lin, CEO, Application Type: New NVO License.

Victoria Line LLC (NVO & OFF), 2000 N.W. 84th Avenue, Miami, FL 33122, Officers: Alberto J. Marino, Managing Member (QI), Jose R. DeVivero, Member, Application Type: New NVO & OFF License.

Western Direct Express, LLC (NVO & OFF), 47602 Kato Road, Fremont, CA 94538, Officers: Efren G. Yap, Vice President (QI), Anthony D. Zimmer, President, Application Type: New NVO & OFF License.

By the Commission.
Dated: February 8, 2013.
Karen V. Gregory,
Secretary.

[FR Doc. 2013-03320 Filed 2-12-13; 8:45 am]

BILLING CODE 6730-01-P